DEPARTMENT OF EDUCATION

[CFDA No. 84.286B]

Office of Educational Research and Improvement; Fund for the Improvement of Education—Ready To Teach: Digital Educational Programming; Notice Inviting Applications for New Awards for Fiscal Year (FY) 2002

Purpose of Program: The purpose of this program is to support grants to eligible entities to enable them to develop, produce, and distribute innovative educational and instructional programming that is designed for use by elementary schools or middle schools and based on challenging State academic content and student academic achievement standards in reading or mathematics.

For FY 2002 this competition for new awards focuses on projects designed to meet the priorities we describe in the Priorities section of this application notice.

Eligible Applicants: An eligible applicant is a local public telecommunications entity, as defined in section 397(12) of the Communications Act of 1934, that is able to demonstrate a capacity for the development and distribution of educational and instructional television programming of high quality. Section 397(12) of the Communications Act of 1934 provides that:

The term public telecommunications entity means any enterprise which—

(A) Is a public broadcast station or a noncommercial telecommunications entity; and

(B) Disseminates public telecommunications services to the public.

Applications Available: July 17, 2002.

The application package for this competition is available online at: http://ed.gov/GrantApps/.

Deadline for Transmittal of Applications: August 15, 2002.

Deadline for Intergovernmental Review: September 15, 2002.

Estimated Available Funds: $2,300,000.

Estimated Range of Awards: $250,000 to $2,300,000 per year.

Estimated Number of Awards: 1 to 4.

Note: The Department is not bound by any estimates in this notice.

Project Period: 36 months.

Budget Period: 12 months.

Page Limit: The application narrative is where you, the applicant, address the selection criteria that reviewers will use to evaluate your application. It is strongly suggested that you limit the narrative to the equivalent of no more than 20 pages using the following standards:

• A page is 8.5″ x 11″, on one side only, with 1″ margins at the top, bottom, and both sides.

• Double space (no more than three lines per vertical inch) all text in the application narrative.

• Use a font that is either 12 point or larger and no smaller than 10 pitch (characters per inch).

Applicable Regulations: The Education Department General Administrative Regulations (EDGAR) in 34 CFR parts 74, 75, 77, 79, 80, 81, 82, 85, 86, 97, 98, and 99.

Priorities

This competition focuses on projects designed to meet the following priorities. Under 34 CFR 75.105(c)(3), we consider only applications that meet the absolute priority.

Absolute Priority

The project shall develop, produce, and distribute digital instructional programming to assist teachers in implementing reading or mathematics instruction for students in kindergarten through grade 8. Programming for reading shall include the essential components of reading instruction as defined in Title I of the Elementary and Secondary Education Act of 1965 as reauthorized by the No Child Left Behind Act of 2001. Programming for mathematics shall include both problem solving and mental computation. The programming developed shall include tools for classroom-based instructional assessment, which evaluates children's learning based on systematic observations by teachers of children performing academic tasks that are part of their daily classroom experience and is used to improve instruction. Applicants may choose to develop programming for certain grades rather than all grades between kindergarten and eighth or for certain types of learners, such as students with limited English proficiency, students with learning disabilities, or students with low levels of readiness for reading or mathematics, rather than all learners.

Competitive Preference

Under 34 CFR 75.105(c)(2)(i), we award up to an additional 20 points to an application, depending on how well the application meets the following competitive preference. These points are in addition to any points the application earns under the selection criteria.

The project shall be designed to determine whether the programming developed with the grant funds produces meaningful effects on student learning. In order to do this, the project preferably employs an experimental design with random assignment. If random assignment is not feasible, the project may employ a quasi-experimental design with carefully matched comparison conditions. For experimental designs, random assignment to the ready to teach program being evaluated versus one or more comparison conditions should occur at the level of students or classrooms or schools. Alternatively, in a quasi-experimental design, students or classrooms or schools that are receiving the ready to teach program are matched with comparable students, classrooms, or schools that are not receiving the ready to teach program. Data from reliable and valid measures of reading or mathematics achievement in children and related instructional practices should be collected before and after participation in the ready to teach program or the comparison condition.

Selection Criteria: We will use a peer review process to select eligible entities to receive grants under this program. Peer reviewers will use the following criteria to evaluate applications. The maximum score for all these criteria is 100 points. The maximum score for each criterion is indicated in parentheses.

(1) The extent to which the goals, objectives, and outcomes to be achieved by the proposed project are clearly specified and measurable. (20 points)

(2) The quality of the plan for developing, producing, and distributing innovative educational and instructional video programming that is based on challenging State academic content standards and can be distributed through digital broadcasting and school digital networks. (30 points)

(3) The extent to which the programming to be developed will include built-in teacher utilization and support components to ensure that teachers understand and can easily use the content of the programming with group instruction or for individual student use. (20 points)

(4) The extent to which the applicant will enter into multiyear content development collaborative arrangements with State educational agencies and local educational agencies. (20 points)

(5) The extent to which the evaluation will provide guidance about effective strategies suitable for replication or testing in other settings. (10 points)

SUPPLEMENTARY INFORMATION:

Background

Grants are awarded under this program to facilitate the development of educational programming that: (1) Includes student assessment tools to provide feedback on student academic achievement; (2) includes built-in teacher utilization and support components to ensure that teachers understand and can easily use the content of the programming with group instruction or for individual student use; (3) is created for, or adaptable to, challenging State academic content standards and student academic achievement standards; and (4) may be distributed through digital broadcasting and school digital networks.

An entity that receives a grant under this program must enter into multiyear content development collaborative arrangements with State educational agencies, local educational agencies, institutions of higher education, businesses, or other agencies or organizations.

To be eligible to receive a grant under this program, an entity must contribute to the activities assisted under such grant non-Federal matching funds in an amount equal to not less than 100 percent of the amount of the grant. Such matching funds may include funds provided for the transition to digital broadcasting, as well as in-kind contributions.

An entity that receives a grant under this program may not use more than 5 percent of the amount received under the grant for administrative costs.

Waiver of Proposed Rulemaking

Under the Administrative Procedure Act (5 U.S.C. 553), the Department generally offers interested parties the opportunity to comment on proposed requirements. Section 437(d)(1) of the General Education Provisions Act, however, exempts from this requirement rules that apply to the first competition under a new or substantially revised program authority. This is the first competition under the Fund for the Improvement of Education: Ready to Teach Digital Educational Programming Program, which was substantially revised by the No Child Left Behind Act of 2001. The requirements will apply to the FY 2002 grant competition only.

Application Procedures

The Government Paperwork Elimination Act (GPEA) of 1998, (Pub. L. 105-277) and the Federal Financial Assistance Management Improvement Act of 1999, (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications to the FY 2002 Ready to Teach Digital Educational Programming Program be submitted electronically using e-Application available through the Education Department's e-GRANTS system. The e-GRANTS system is accessible through its portal page at: http://www.e-grants.ed.gov.

Applicants who are unable to submit an application through the e-GRANTS system may apply for a waiver to the electronic submission requirement. To apply for a waiver, applicants must explain the reason(s) that prevent them from using the Internet to submit their applications. The reasons(s) must be outlined in a letter addressed to: Tawanna Coles, U.S. Department of Education, 555 New Jersey Avenue, NW., room 522K, Washington, DC 20208-5645. We must receive your letter no later than two weeks before the closing date.

Any application that receives a waiver to the electronic submission requirement will be given the same consideration in the review process as an electronic application.

Pilot Project for Electronic Submission of Applications

In fiscal year 2002, the U.S. Department of Education is continuing to expand its pilot project of electronic submission of applications to include additional formula grant programs and additional discretionary grant competitions. The Fund for the Improvement of Education: Ready to Teach Digital Educational Programming Program (84.286B) is one of the programs included in the pilot project. If you are an applicant under the Ready to Teach Digital Educational Programming Program, you must submit your application to us in electronic format or receive a waiver.

The pilot project involves the use of the Electronic Grant Application System (e-Application, formerly e-GAPS) portion of the Grant Administration and Payment System (GAPS). We shall continue to evaluate its success and solicit suggestions for improvement.

Please note the following:

• On the deadline date, the deadline time for transmitting applications is 4:30 p.m. Washington, DC time.

• If you wait until the deadline date to submit your application electronically and you are unable to access the e-Application system, you must contact the Help Desk by 4:30 p.m. Washington, DC time on the deadline date.

• Keep in mind that e-Application is not operational 24 hours a day every day of the week. Click on Hours of Web Site Operation for specific hours of access during the week.

• You will have access to the e-Application Help Desk for technical support: 1-888-336-8930 (TTY: 1-866-697-2696, local 202-401-8363). The Help Desk hours of operation are limited to: 8 a.m. to 6 p.m. Washington, DC time Monday through Friday.

• If you submit your application electronically by the transmittal date but also wish to submit a paper copy of your application, then you must mail the paper copy of the application on or before the deadline date to: U.S. Department of Education, Application Control Center, Attention: CFDA # 84.286B, 7th and D Streets, SW., Room 3671, Regional Office Building 3, Washington, DC 20202-4725.

• You can submit all documents electronically, including the Application for Federal Assistance (ED 424 Standard Face Sheet), Budget Information—Non-Construction Programs (ED 524), and all necessary assurances and certifications.

• Within three working days of submitting your electronic application, fax a signed copy of the Application for Federal Assistance (ED 424 Standard Face Sheet) to the Application Control Center after following these steps:

1. Print ED 424 from the e-APPLICATION system.

2. Make sure that the institution's Authorized Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at 202-260-1349.

• We may request that you give us original signatures on all other forms at a later date.

You may access the electronic grant application for the Ready to Teach Digital Educational Programming Program at: http://e-grants.ed.gov.

FOR FURTHER INFORMATION CONTACT: Tawanna Coles, U.S. Department of Education, 555 New Jersey Avenue, NW., room 522K, Washington, DC 20208-5645. Telephone: (202) 219-2143, FAX: 202-208-4046, or via the Internet: tawanna.coles@ed.gov.

If you use a telecommunications device for the deaf (TDD), you may call the Federal Information Relay Service (FIRS) at 1-800-877-8339.

Individuals with disabilities may obtain this document in an alternative format, e.g., Braille, large print, audiotape, or computer diskette, on request to the program contact person listed under FOR FURTHER INFORMATION CONTACT.

Individuals with disabilities also may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO) toll free, at 1-888-293-6498; or in the Washington, DC, area at 202-512-1530.

Note: The official version of this document is the document published in the Federal Register. Free Internet access to the official edition of the Federal Register and the Code of Federal Regulations is available on GPO Access at: http://www.access/gpo.gov/nara/index.html.

Program Authority: 20 U.S.C. 5484.

Dated: July 11, 2002.
Grover J. Whitehurst,
Assistant Secretary for Educational Research and Improvement.

[FR Doc. 02-18030 Filed 7-16-02; 8:45 am]

BILLING CODE 4000-01-P